DEPARTMENT OF COMMERCE

National Oceanic and Atmospheric Administration

RIN 0648-XA107

New England Fishery Management Council; Public Meeting

AGENCY: National Marine Fisheries Service (NMFS), National Oceanic and Atmospheric Administration (NOAA), Commerce.

ACTION: Notice; public meeting.

SUMMARY: The New England Fishery Management Council's (Council) Herring Committee will meet to consider actions affecting New England fisheries in the exclusive economic zone (EEZ).

DATES: The meeting will be held on Thursday, January 20, 2011 at 9 a.m.

ADDRESSES: The meeting will be held at the Clarion Hotel, 1230 Congress Street, Portland, ME 04102; telephone: (207) 774-5611; fax: (207) 871-0510.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. The Herring Committee will continue development of catch monitoring alternatives for inclusion in Amendment 5 to the Atlantic Herring Fishery Management Plan (FMP); alternatives include management measures to: Adjust the fishery management program (administrative provisions, carrier vessels, transfers at sea, notification requirements, quota monitoring, reporting, and permit provisions); address at-sea monitoring, observer coverage levels, address maximized retention, and maximize sampling and address net slippage; address portside sampling, portside sampling program design, and measures to verify self-reported landings.

2. The Committee will also continue development of management measures and alternatives to address river herring bycatch for consideration in Amendment 5; alternatives may include identification of river herring hotpots and management alternatives to apply to those hotspots (sampling, monitoring, avoidance, protection).

3. They will review/discuss available information regarding the development of management measures spawning fish in Amendment 5, develop Committee recommendations.

4. They will develop recommendations for Council consideration regarding all of the management alternatives for inclusion in Amendment 5 Draft EIS (catch monitoring program, measures to address river herring bycatch, access to groundfish closed areas, protection of spawning fish).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: December 17, 2010.
Tracey L. Thompson,
Acting Director, Office of Sustainable Fisheries, National Marine Fisheries Service.

[FR Doc. 2010-32216 Filed 12-22-10; 8:45 am]

BILLING CODE 3510-22-P